DEPARTMENT OF THE INTERIOR

Bureau of Land Management

[WY-060-1320-EL, WYW161248, WYW172585, WYW172657, WYW173360]

Notice of Public Hearing, Notice of Intent To Begin Scoping, and To Prepare an Environmental Impact Statement

AGENCY: Bureau of Land Management, Interior.

ACTION: Notice of Public Hearing, Notice of Intent (NOI) To Begin Scoping, and to Prepare an Environmental Impact Statement (EIS) on Four Federal Coal Lease Applications (LBA) in the Decertified Powder River Federal Coal Production Region, Wyoming.

SUMMARY: Pursuant to Section 102(2)(C) of the National Environmental Policy Act (NEPA) of 1969, as amended, the Bureau of Land Management (BLM), Casper Field Office announces its intent to prepare one EIS titled “South Gillette Area Coal EIS” on the potential and cumulative impacts of leasing four tracts of Federal coal. Consistent with Federal regulations promulgated for the Minerals Leasing Act of 1920, as amended, 43 Code of Federal Regulations (CFR) 3425, the BLM must prepare an environmental analysis prior to holding a competitive Federal coal lease sale.

DATES: This notice initiates the scoping process. The BLM can best use public input if comments and resource information are submitted to the address below in the ADDRESSES section by June 1, 2007.

To provide the public with an opportunity to review the proposal and gain understanding of the coal leasing process, the BLM will host a meeting on April 11, 2007, at 7 p.m. at the Gillette College Presentation Hall, Room 120, 300 West Sinclair, Gillette, Wyoming. At the meeting, the public is invited to submit comments and resource information, plus identify issues or concerns to be considered in the coal leasing process. The BLM will announce future public meetings and other opportunities to submit comments on this project at least 15 days prior to the events. Announcements will be made through local news media and the Casper Field Office's Web site, which is: http://www.wy.blm.gov/cfo/.

ADDRESSES: Please submit written comments or concerns to the BLM Casper Field Office, Attn: Teresa Johnson, 2987 Prospector Drive, Casper, Wyoming 82604. Written comments or resource information may also be hand-delivered to the BLM Casper Field Office or sent by facsimile to the attention of Teresa Johnson at (307) 261-7510. Comments may be sent electronically to casper_wymail@blm.gov. Please put “South Gillette Area Coal EIS/Teresa Johnson” in the subject line.

Members of the public may examine documents pertinent to this proposal by visiting the Casper Field Office during its business hours (7:45 a.m. to 4:30 p.m.), Monday through Friday, except holidays.

FOR FURTHER INFORMATION CONTACT: Teresa Johnson or Mike Karbs, BLM Casper Field Office, 2987 Prospector Drive, Casper, Wyoming 82604. Ms Johnson or Mr. Karbs may also be reached at (307) 261-7600.

SUPPLEMENTARY INFORMATION: A maintenance tract is a parcel of land containing Federal coal reserves that can be leased to maintain production at an existing mine. The BLM received four Federal coal LBAs for use as maintenance tracts in Campbell County, Wyoming.

On June 6, 2004, RAG Wyoming Land Company (RAG) applied for a maintenance coal lease tract of approximately 1,578.74 acres (approximately 200 million tons of in-place coal) adjacent to the Belle Ayr Mine. RAG subsequently sold the Belle Ayr Mine and its associated interests to Foundation Coal Holdings, Inc. (Foundation). From this point forward, the applicant for the Belle Ayr North Tract will be referred to as Foundation. The tract, which is referred to as the Belle Ayr North Tract, has been assigned case number WYW161248. The Belle Ayr North Tract includes the following lands in Campbell County, Wyoming:

T. 48 N., R. 71 W., 6th PM, Wyoming

Section 18: Lots 17, 18, 19 (W½, SE¼);

Section 19: Lots 5 through 19;

Section 20: Lots 3 (SW¼), 4 (W½, SE¼), 5, 6, 7 (S½), 9 (S½), 10 through 16;

Section 21: Lots 13, 14;

Section 28: Lots 3 through 6;

Section 29: Lots 1, 6;

T. 48 N., R. 72 W., 6th PM, Wyoming

Section 24: Lots 1, 8.

Containing 1,578.74 acres, more or less.

Foundation proposes to mine the tract as a part of the Belle Ayr Mine. At the 2006 mining rate of 24.6 million tons per year, the coal included in the Belle Ayr North Tract would extend the life of the Belle Ayr Mine by as many as 8 years.

On February 10, 2006, Ark Land Company (Ark) applied for a maintenance coal tract of approximately 1,151 acres (approximately 57 million tons of in-place coal) adjacent to the Coal Creek Mine. The tract, which is referred to as the West Coal Creek Tract, has been assigned case number WYW172585. The West Coal Creek Tract includes the following lands in Campbell County, Wyoming:

T. 46 N., R. 70 W., 6th PM, Wyoming

Section 18: Lots 14 through 17;

Section 19: Lots 7 through 10, 15 through 18;

Section 30: Lots 5 through 20.

Containing 1,151.26 acres, more or less.

Ark's subsidiary, Thunder Basin Coal Company, proposes to mine the tract as a part of the Coal Creek Mine. At the 2006 mining rate of 4.2 million tons per year, the coal included in the West Coal Creek Tract would extended the life of the Coal Creek Mine by as many as 13 years.

On March 15, 2006, Caballo Coal Company (Caballo) applied for a maintenance coal tract of approximately 777.485 acres (approximately 87.5 million tons of in-place coal) adjacent to the Caballo Mine. The tract, which is referred to as the Caballo West Tract, has been assigned case number WYW172585. The Caballo West Tract includes the following lands in Campbell County, Wyoming:

T. 48 N., R. 71 W., 6th PM, Wyoming

Section 7: Lots 12, 19;

Section 8: Lot 10;

Section 17: Lots 1 through 10, 11 (N½, SE¼), 12 (NE¼), 15 (N½, SE¼), 16;

Section 18: Lots 5, 12 (NE¼);

Section 20: Lots 1, 2 (NE¼), 8 (N½ SE¼).

Containing 777.485 acres, more or less.

Caballo proposes to mine the tract as a part of the Caballo Mine. At the 2006 mining rate of 39 million tons per year, the coal included in the Caballo West Tract would extend the life of the Caballo Mine by as many as 2.2 years.

On September 1, 2006, Cordero Mining Company (Cordero) applied for a maintenance coal tract of approximately 4,653.80 acres (approximately 483 million tons of in-place coal) adjacent to the Cordero Rojo Mine. The tract, which is referred to as the Maysdorf II Tract, has been assigned case number WYW173360. The Maysdorf II Tract includes the following lands in Campbell County, Wyoming:

T. 46 N., R. 71 W., 6th PM, Wyoming

Section 4: Lots 8, 9, 16, 17;

Section 5: Lots 5, 12, 13, 20;

Section 9: Lots 6 through 8;

Section 10: Lots 7 through 10;

Section 11: Lots 13 through 16;

T. 47 N., R. 71 W., 6th PM, Wyoming

Section 7: Lots 6 through 11, 14 through 19;

Section 17: Lots 1 through 15, SW¼NW¼;

Section 18: Lots 5 through 14, 19, 20;

Section 20: Lots 1, 8, 9, 16;

Section 21: Lots 4, 5, 12, 13;

Section 28: Lots 4, 5, 12, 13;

Section 29: Lots 1, 8, 9, 16;

Section 32: Lots 1, 8, 9, 16;

Section 33: Lots 4, 5, 12, 13;

T. 47 N., R. 72 W., 6th PM, Wyoming

Section 12: Lots 1 through 16;

Section 13: Lots 1 through 8.

Containing 4,653.80 acres, more or less.

Cordero proposes to mine the tract as a part of the Cordero Rojo Mine. At the 2006 mining rate of 39.7 million tons per year, the coal included in the Maysdorf II Tract would extend the life of the Cordero Rojo Mine by as many as 12 years.

Lands in the Belle Ayr North, West Coal Creek, and Caballo West Tracts contain private surface estate overlying the Federal coal. Lands in the Maysdorf II Tract contain private and Federal surface estate overlying the Federal coal. The Federal surface is administered by BLM.

The Belle Ayr Mine, Coal Creek Mine, Caballo Mine, and Cordero Rojo Mine are operating under approved mining permits from the Land Quality and Air Quality Divisions of the Wyoming Department of Environmental Quality.

The Powder River Regional Coal Team recommended that BLM process these four coal lease applications after they reviewed the Belle Ayr North Tract at a public meeting held on April 24, 2005, in Gillette, Wyoming, and the West Coal Creek, Caballo West, and Maysdorf II Tracts at a public meeting held on April 19, 2006, in Casper, Wyoming.

The Office of Surface Mining Reclamation and Enforcement (OSM) will be a cooperating agency in the preparation of the EIS. If the four tracts are leased to the applicants, the new leases must be incorporated into the existing mining and reclamation plans for the adjacent mines. Before the Federal coal in each tract can be mined, the Secretary of the Interior must approve the revised MLA mining plan for the mine in which each tract will be included. The OSM is the Federal agency that is responsible for recommending approval, approval with conditions, or disapproval of the revised MLA mining plan to the Office of the Secretary of the Interior. Other cooperating agencies may be identified during the scoping process.

The BLM will provide interested parties the opportunity to submit comments or relevant information or both. This information will help the BLM identify issues to be considered in preparing the South Gillette Area Coal EIS. Issues that have been identified in analyzing the impacts of previous Federal coal leasing actions in the Wyoming Powder River Basin (PRB) include the need for resolution of conflicts between existing and proposed oil and gas development and coal mining on the tracts proposed for coal leasing; potential impacts to big game herds and hunting; potential impacts to sage-grouse; potential impacts to listed Threatened and Endangered Species; potential health impacts related to blasting operations conducted by the mines to remove overburden and coal; the need to consider the cumulative impacts of coal leasing decisions combined with other existing and proposed development in the Wyoming PRB; and potential site-specific and cumulative impacts on air and water quality.

Your response is important and will be considered in the EIS process. If you do respond, we will keep you informed of the availability of environmental documents that address impacts that might occur from this proposal.

Before including your address, phone number, e-mail address, or other personal identifying information in your comment, you should be aware that your entire comment—including your personal identifying information—may be made publicly available at any time. While you can ask us in your comment to withhold your personal identifying information from public review, we cannot guarantee that we will be able to do so.

Dated: February 21, 2007.
Donald A. Simpson,
Associate State Director.

[FR Doc. 07-1566 Filed 3-28-07; 8:45 am]

BILLING CODE 4310-22-P